DEPARTMENT OF THE TREASURY

Submission for OMB Review; Comment Request

April 8, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 15, 2009 to be assured of consideration.

Alcohol and Tobacco Tax and Trade Bureau (TTB)

OMB Number: 1513-0118.

Type of Review: Revision.

Title: Formulas for Fomented Beverage Products.

Description: Formula information is necessary to protect the public and collect revenue. Brewers must submit written notices to obtain formula approval.

Respondents: Businesses or other for-profits.

Estimated Total Burden Hours: 500 hours.

OMB Number: 1513-0083.

Type of Review: Revision.

Form: TTB F 5000.24.

Title: Excise Tax Return.

Description: Businesses, other than those in Puerto Rico, report their Federal excise tax liability on distilled spirits, wine, beer, tobacco products, cigarette papers and tubes on TTB F 5000.24. TTB needs this form to identify the taxpayer and to determine the amount and type of taxes due and paid.

Respondents: Businesses or other for-profits.

Estimated Total Burden Hours: 48,166 hours.

OMB Number: 1513-0122.

Type of Review: Extension.

Form: TTB F 5100.51.

Title: Formula and Process for Domestic and Imported Alcohol Beverages

Description: This report is used to monitor the production of malt beverages, wine, and distilled spirits products. It ensures that these products are correctly produced and classified according to Federal regulations.

Respondents: Businesses or other for-profits.

Estimated Total Burden Hours: 8,000 hours.

Clearance Officer: Frank Foote, (202) 927-9347. Alcohol and Tobacco Tax and Trade Bureau, Room 200 East, 1310 G. Street, NW., Washington, DC 20005.

OMB Reviewer: Shagufta Ahmed, (202) 395-7873. Office of Management and Budget, Room 10235, New Executive Office Building, Washington, DC 20503.

Celina Elphage,
Treasury PRA Clearance Officer.

[FR Doc. E9-8598 Filed 4-14-09; 8:45 am]

BILLING CODE 4810-31-P